NUCLEAR REGULATORY COMMISSION

[Project No. 0782; NRC-2013-0244]

Korea Hydro and Nuclear Power Co., Ltd., and Korea Electric Power Corporation

AGENCY: Nuclear Regulatory Commission.

ACTION: Notice of receipt; availability.

SUMMARY: The U.S. Nuclear Regulatory Commission (NRC) staff acknowledges receipt of the application for a standard design certification of the APR1400 Standard Plant Design submitted by Korea Hydro and Nuclear Power Co., Ltd. (KHNP) and Korea Electric Power Corporation (KEPCO).

ADDRESSES: Please refer to Docket ID NRC-2013-0244 when contacting the NRC about the availability of information regarding this document. You may access publicly-available information related to this action by the following methods:

• Federal Rulemaking Web site: Go to http://www.regulations.gov and search for Docket ID NRC-2013-0244. Address questions about NRC dockets to Carol Gallagher; telephone: 301-287-3422; email: Carol.Gallagher@nrc.gov. For technical questions, contact the individual listed in the FOR FURTHER INFORMATION CONTACT section of this document.

• NRC'S Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced. The application is available in ADAMS under Accession No. ML13281A699.

• NRC'S PDR: You may examine and purchase copies of public documents at the NRC's PDR, Room O1-F21, One White Flint North, 11555 Rockville Pike, Rockville, Maryland 20852.

FOR FURTHER INFORMATION CONTACT: Jeffrey Ciocco, Office of New Reactors, U.S. Nuclear Regulatory Commission, Washington, DC 20555-0001; telephone: 301-415-6391; email: Jeff.Ciocco@nrc.gov.

SUPPLEMENTARY INFORMATION: By letter dated September 30, 2013, KHNP and KEPCO filed with the NRC, pursuant to Section 103 of the Atomic Energy Act and part 52 of Title 10 of the Code of Federal Regulations (10 CFR), an application for standard design certification of the APR1400 Standard Plant Design.

The APR1400 stands for Advanced Power Reactor with a 1,400 megawatts electrical power and two-loop pressurized water reactor, developed in the Republic of Korea. Based on the self-reliant technologies and experiences from the design, construction, operation and maintenance of the Optimized Power Reactor 1000 (OPR1000), the APR1400 adopts advanced design features to enhance plant safety, economical efficiency, and convenience of operation and maintenance. The APR1400 application includes the entire power generation complex, except those elements and features considered site-specific. The acceptability of the tendered application for docketing and other matters relating to the requested rulemaking pursuant to 10 CFR 52.51 for design certification, including provisions for participation of the public and other parties, will be the subject of subsequent Federal Register notices.

Dated at Rockville, Maryland, this 30th day of October 2013.
For the Nuclear Regulatory Commission.
Jeffrey A. Ciocco,
Senior Project Manager, Environmental Projects Branch 2, Division of New Reactor Licensing, Office of New Reactors.

[FR Doc. 2013-26539 Filed 11-5-13; 8:45 am]

BILLING CODE 7590-01-P